DEPARTMENT OF THE INTERIOR

Bureau of Land Management

[LLWYD03000 L51100000.GN0000.LVEMK10CW580-WYW-166318]

Notice of Availability of the Draft Environmental Impact Statement for the Lost Creek Uranium In Situ Recovery Project, Wyoming

AGENCY: Bureau of Land Management, Interior.

ACTION: Notice of Availability.

SUMMARY: In accordance with the National Environmental Policy Act of 1969 (NEPA), as amended, the Bureau of Land Management (BLM) has prepared a Draft Environmental Impact Statement (EIS) for the Lost Creek Uranium In Situ Recovery (ISR) Project and by this notice is announcing the opening of the comment period.

DATES: To ensure that comments will be considered, the BLM must receive written comments on the Lost Creek ISR Project Draft EIS within 45 days following the date the Environmental Protection Agency publishes its Notice of Availability in the Federal Register. The BLM will announce future meetings or hearings and any other public involvement activities at least 15 days in advance through public notices, media releases, and/or mailings.

ADDRESSES: Comments related to the Lost Creek ISR Project may be submitted by any of the following methods:

• Email: Lost_Crk_Mine_WY@blm.gov. Please reference “Lost Creek ISR Project” in the subject line.

• Fax: 307-328-4224.

• Mail: Bureau of Land Management, Lost Creek ISR Project, Attention: Dennis Carpenter, Field Manager, 1300 N. Third Street, P.O. Box 2407, Rawlins, Wyoming 82301.

Copies of the Lost Creek ISR Project Draft EIS are available in the BLM Rawlins Field Office, at the address indicated above, the BLM Lander Field Office, 1335 Main Street, Lander, Wyoming 82520; the BLM High Desert District Office, 280 Highway 191 North, Rock Springs, Wyoming 82901; and the BLM Wyoming State Office, 5353 Yellowstone Road, Cheyenne, Wyoming 82009; and at the following Web site: http://www.blm.gov/wy/st/en/info/NEPA/documents/rfo/lostcreek.html.

FOR FURTHER INFORMATION CONTACT: Dennis Carpenter, Field Manager, at the BLM Rawlins Field Office, telephone: 307-328-4200; address: 1300 N. Third Street, P.O. Box 2407, Rawlins, Wyoming 82301, email: Lost_Crk_Mine_WY@blm.gov. Persons who use a telecommunications device for the deaf (TDD) may call the Federal Information Relay Service (FIRS) at 1-800-877-8339 to contact the above individual during normal business hours. The FIRS is available 24 hours a day, 7 days a week, to leave a message or question with the above named individual. You will receive a reply during normal business hours.

SUPPLEMENTARY INFORMATION: The applicant, Lost Creek ISR, LLC (Lost Creek), has filed a plan of operations pursuant to the 43 CFR subpart 3809 regulations to construct a uranium ore recovery plant, an access road to the site, and a pipeline system for the flow of oxidizing leach solution to injection wells and return of fluids from recovery wells to the recovery plant site; to drill injection, recovery and monitoring wells; and to construct associated facilities such as parking lots, power lines, etc. Development and recovery of the uranium consists of dissolving underground uranium-bearing minerals into solution and then bringing the solution to the surface facility for concentration. The Lost Creek ISR Project is located about 40 miles northwest of Rawlins, Wyoming, in Sweetwater County. The project is located in the following area.

Sixth Principal Meridian

T. 25 N., R. 92 W.

Secs. 16 to 20, inclusive;

Secs. 29 to 31, inclusive.

T. 25 N., R. 93 W.

Secs. 13, 24, and 25.

The project area boundary includes approximately 4,250 acres, but only about 345 acres would be subjected to actual surface disturbance that would be approved by the BLM. Most of the surface disturbance would be related to construction of pads for wells used to extract uranium in solution from the site.

The plant site would comprise approximately 10 acres, including parking space for about 50-60 employees. Multiple subsurface ore bodies ranging in depth from about 300-700 feet below the surface are found at the site. Each of the three separate production areas containing uranium would be established and mined, one at a time. It is expected that mining operations would last about 8 years. An estimated additional 3 years would be required for startup and closure of the site for a total project length of 11 years. A proposed final reclamation plan for the project area has been submitted. All surface facilities would be removed when the project is completed and the land re-contoured to near predisturbance condition and re-vegetated.

The draft EIS addresses the direct, indirect, and cumulative impacts of the proposed action and three alternatives including the No Action Alternative, the “Not Fencing the Pattern Areas” Alternative, and the “Drying Yellowcake On-Site” Alternative.

The No Action Alternative, as required by NEPA, describes conditions expected to occur if no ISR operations would be conducted within the permit area, although activities currently on-going would continue and other activities at the site during the proposed licensing/permitting period would still occur. Under the “Not Fencing the Pattern Areas” Alternative, temporary fencing would be installed only around the drill pits, including those drilled within the mine units, and around the plant and storage ponds, as opposed to the entire well field of the pattern area. Under the “Drying Yellowcake On-Site” Alternative, a yellowcake drying and packing facility would be constructed and operated at the permit area. As with the Proposed Action, yellowcake slurry (30 to 50 percent solids) would be produced; however, the slurry would be filter-pressed to remove additional water, dried, and packaged on-site.

The Notice of Intent to prepare an EIS was published in the Federal Register on February 11, 2011 (76 FR 7877). Key issues identified during scoping include, among others, the project impact on public-land access, wild horse use and distribution, greater sage-grouse, air and water resources, livestock grazing operations, and public health and safety.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time.

While you may ask the BLM in your comment to withhold your personal identifying information from public review, we cannot guarantee that we will be able to do so.

Authority: 40 CFR 1506.6, 40 CFR 1506.10.

Larry Claypool,
Acting State Director.

[FR Doc. 2012-10045 Filed 4-26-12; 8:45 am]

BILLING CODE 4310-22-P